DEPARTMENT OF COMMERCE

Foreign-Trade Zones Board

[B-53-2019]

Foreign-Trade Zone (FTZ) 26—Atlanta, Georgia; Notification of Proposed Production Activity; Patterson Pump Company (Specialty Pumps), Toccoa, Georgia

Patterson Pump Company (Patterson) submitted a notification of proposed production activity to the FTZ Board for its facility in Toccoa, Georgia. The notification conforming to the requirements of the regulations of the FTZ Board (15 CFR 400.22) was received on August 29, 2019.

The applicant has submitted a separate application for FTZ designation at the company's facility under FTZ 26. The facility is used for the production of specialty pumps for the fire, municipal, industrial, flood-control, plumbing, and HVAC markets. Pursuant to 15 CFR 400.14(b), FTZ activity would be limited to the specific foreign-status materials and components and specific finished products described in the submitted notification (as described below) and subsequently authorized by the FTZ Board.

Production under FTZ procedures could exempt Patterson from customs duty payments on the foreign-status components used in export production. On its domestic sales, for the foreign-status materials/components noted below, Patterson would be able to choose the duty rates during customs entry procedures that apply to fire pumps; HVAC pumps; custom pumps; liquid elevators; cast stainless steel pump components; cast bronze pump components; valve parts including gaskets, O-rings, springs, and fittings; pump control cabinets less than and greater than 1,000 volts with motor controls; pump control cabinets less than and greater than 1,000 volts with programmable logic controls; pump control cabinets less than and greater than 1,000 volts; control cabinet parts including fuses and relays; stainless steel pump parts including impellers; ductile iron pump cases; cast iron pump cases; stainless steel impellers; cast iron pump cases; steel shaft couplings; brass pump castings; complete pump systems with motors; and, custom metal fabrications including stainless steel gas turbine parts and frames (duty rate ranges from duty-free to 6.6%). Patterson would be able to avoid duty on foreign-status components which become scrap/waste. Customs duties also could possibly be deferred or reduced on foreign-status production equipment.

The components and materials sourced from abroad include: Bronze and brass castings; steel castings; steel pump shims; stainless steel pump shims; centrifugal water pumps; cast stainless steel pump casings and impellers; cast brass/bronze pump casings and impellers; bronze pressure reducing valves; ductile iron pressure reducing valves; cast iron pressure reducing valves; brass check valves; iron and steel check valves; ductile iron pressure relief valves; brass hose valves; bronze air relief valves; stainless steel air relief valves; valve parts including gaskets, O-rings, springs, and threaded connectors; pump control cabinets less than and greater than 1,000 volts with motor controls; pump control cabinets less than and greater than 1,000 volts with programmable logic controls; pump control cabinets less than and greater than 1,000 volts; control cabinet parts including fuses and relays; stainless steel pump shafts, sleeves, rings and impellers; liquid elevating pumps; ductile iron pump cases; cast iron pump cases; cast iron suction diffusers; stainless steel impellers; carbide steel mechanical seals for pumps; cast iron valves; cast iron pump cases; steel shaft couplings; brass pump castings; cast iron pump cases; ductile iron pump cases; centrifugal water pumps with motors; and, stainless steel gas turbine frames, rings and, clamps (duty rate ranges from duty-free to 6.6%). The request indicates that certain materials/components are subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is October 21, 2019.

A copy of the notification will be available for public inspection in the “Reading Room” section of the Board's website, which is accessible via www.trade.gov/ftz.

For further information, contact Christopher Wedderburn at Chris.Wedderburn@trade.gov or (202) 482-1963.

Dated: September 3, 2019.
Andrew McGilvray,
Executive Secretary.

[FR Doc. 2019-19508 Filed 9-9-19; 8:45 am]

BILLING CODE 3510-DS-P